DEPARTMENT OF COMMERCE

National Oceanic and Atmospheric Administration

RIN: 0648-XR82

Catch Share Workshop; Public Meeting

AGENCY: National Marine Fisheries Service (NMFS), National Oceanic and Atmospheric Administration (NOAA), Commerce.

ACTION: Notice of a public meeting.

SUMMARY: The New England Fishery Management Council (NEFMC) will hold a Catch Share Workshop for Council members, staff, its Advisory Panel Chairmen, the Science and Statistical Committee Chairman and Mid-Atlantic Council members. The intent of this meeting is to share information and concerns about the use of catch shares in NEFMC managed fisheries; help decision makers learn from successes, failures and challenges in other regions and place catch shares in context with what has already been approved in New England with an eye toward future direction and action.

DATES: The workshop will be held on October 20 and October 21, 2009. See SUPPLEMENTARY INFORMATION for specific dates and times.

ADDRESSES: The workshop will be held at the Mount Washington Resort, 310 Mount Washington Road, Route 302, Bretton Woods, NH 03575; telephone: (603) 278-8854; fax: (603) 278-7907.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The workshop will begin at 9 a.m. on Tuesday, October 20, 2009 and recess at 5 p.m., or when business is complete; reconvene at 8:30 a.m. on Wednesday, October 21, 2009 and recess at 5 p.m., or when business is complete.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: September 22, 2009.
William D. Chappell,
Acting Director, Office of Sustainable Fisheries, National Marine Fisheries Service.

[FR Doc. E9-23210 Filed 9-24-09; 8:45 am]

BILLING CODE 3510-22-S